DEPARTMENT OF AGRICULTURE

Property Management Division; Notice of Request for Approval of an Information Collection

AGENCY: Office of Property and Environmental Management, USDA.

ACTION: Notice and request for public comments regarding an extension to an existing OMB clearance.

SUMMARY: In accordance with the Paperwork Reduction Act of 1995, this notice announces the Office of Property and Environmental Management intention to request an extension of a currently approved information Technical Equipment Pursuant to Section 14220 of the 2008 Farm Bill.

DATES: Comments on this notice must be received by 60 days after publication in the Federal Register to be assured of consideration.

ADDRESSES: Office of Property and Environmental Management invites interested persons to submit comments on this notice. Comments may be submitted by one of the following methods:

□ Federal eRulemaking Portal: This website provides the ability to type short comments directly into the comment field on this web page or attach a file for lengthier comments. Go to http://www.regulations.gov. Follow the on-line instructions at that site for submitting comments.

□ Mail: U.S. Department of Agriculture, Property Management Division, Office of Property and Environmental Management, Attn: Pernell Ridley, 1400 Independence Ave. SW, Mailstop 9304, Suite 1069, Washington, DC 20250-9304.

□ Hand- or courier-delivered submittals: Deliver to U.S. Department of Agriculture, Office of Property and Environmental Management, 1400 Independence Ave. SW, Mailstop 9304, Suite 1069, Washington, DC 20250-9304.

□ Instructions: All items submitted by mail or electronic mail must include the Agency name and docket number U.S. Department of Agriculture, Office of Property and Environmental Management, Docket Clerk, 1400 Independence Ave. SW, Mailstop 9304, Suite 1069, Washington, DC 20250-9304. Comments received in response to this docket will be made available for public inspection and posted without change, including any personal information, to http://www.regulations.gov.

FOR FURTHER INFORMATION CONTACT: Contact Pernell Ridley Office of Property and Environmental Management, U.S. Department of Agriculture, 1400 Independence Ave. SW, Washington, DC 20250, Phone 202-309-1125 or by Email at pernell.ridley@usda.gov.

SUPPLEMENTARY INFORMATION: In accordance with the Paperwork Reduction Act of 1995 (44 U.S.C. Chapter 35), this notice announces the intention of Office of Property and Environmental Management to request approval for an existing collection in use without an OMB control number.

Title: Guidelines for the Transfer of Excess Computers or Other Technical Equipment Pursuant to Section 14220 of the 2008 Farm Bill.

OMB Number: 0505-0023.

Expiration Date of Approval: April 30, 2021.

Type of Request: Extension and revision of a currently approved information collection.

Abstract: USDA requires information in order to verify eligibility of requestors, determine availability of excess property, and have contact information for the requestor available to ensure an organization is designated to receive property on behalf of an eligible recipient. Information will be used to coordinate the transfer of excess property to eligible recipients. Respondents will be authorized representatives of a city, town, or local government entity located in a rural area as defined in 7 U.S.C. 1991(a)(13)(A).

Estimate of Burden: Public reporting burden for this collection of information is estimated to average .167 hours per response.

Respondents: City, town, or local government entities located in a rural area.

Estimated Number of Respondents: 10.

Estimated Number of Responses per Respondent: 1.

Estimated Total Annual Burden on Respondents: 2 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Pernell Ridley at U.S. Department of Agriculture, Office of Property and Environmental Management, Docket Clerk, 1400 Independence Ave. SW, Mailstop 9304, Suite 1069, Washington, DC 20250-9304. All comments received will be available for public inspection during regular business hours at the same address.

All responses to this notice will be summarized and included in the request for OMB approval. All comments will become a matter of public record.

Willie Scott Davis,
Director.

[FR Doc. 2021-03199 Filed 2-17-21; 8:45 am]

BILLING CODE P